Title 3—

The President

Proclamation 10551 of April 10, 2023

Black Maternal Health Week, 2023

By the President of the United States of America

A Proclamation

Black Maternal Health Week is a reminder that so many families experience pain, neglect, and loss during what should be one of the most joyous times of their lives. It is an urgent call for action. Black women in America are three times more likely to die from pregnancy-related complications than white women. This is on top of the fact that women in America are dying at a higher rate from pregnancy-related causes than in any other developed nation.

Tackling this crisis begins with understanding how institutional racism drives these high maternal mortality rates. Studies show that Black women are often dismissed or ignored in hospitals and other health care settings, even as they suffer from severe injuries and pregnancy complications and ask for help. Systemic inequities are also to blame. When mothers do not have access to safe and stable housing before and after childbirth, they are at greater risk of falling ill. When women face barriers traveling to the hospital for prenatal and postpartum checkups, they are less likely to remain healthy. Air pollution, water pollution, and lead pipes can have dangerous consequences for pregnant women and newborns. And when families cannot afford nutritious foods, they face worse health outcomes.

That is why my Administration wrote the Blueprint for Addressing the Maternal Health Crisis, which lays out specific actions that the Federal Government will take to improve maternal health, and secured funding from the Congress to help implement it. Vice President Kamala Harris has been a leader on the issue of maternal mortality for years and led the charge to improve maternal health outcomes, including by issuing a call to action to address disparities in maternal care. She continues to elevate the issue nationally, convening State legislators, medical professionals, and others so all mothers can access the care they need before, during, and after childbirth.

Additionally, my American Rescue Plan gave States the option to provide a full year of postpartum coverage to Medicaid beneficiaries—up from just 60 days of coverage. As a result, my Administration has approved requests from 30 States and Washington, D.C. to provide women with Medicaid coverage with a full year of postpartum coverage, and we have made this option permanent for every State that extends Medicaid postpartum coverage. My Administration has helped facilitate Medicaid expansion in four States since I took office, and I continue to call on the Congress to close the Medicaid coverage gap. We are also working to expand and diversify the maternal health workforce, helping health care providers hire and train diverse and culturally-competent physicians, certified nurse midwives, doulas, and community health workers to support women during pregnancy, delivery, and postpartum care. My American Rescue Plan included historic investments in our health workforce, and my Budget includes $471 million to reduce maternal mortality and morbidity rates—improving access to care in rural communities, expanding implicit bias training for health care providers, and further supporting the perinatal health workforce.

Because expecting mothers deserve to know where to find the best care, the Department of Health and Human Services created a new “Birthing Friendly” hospital designation, a public-facing recognition of the quality and safety of maternity care which will be publicly reported on the Care Compare website beginning this Fall. My Administration is committed to implementing the No Surprises Act, which helps ensure that women are protected from certain unexpected out-of-network medical bills that can come up during pregnancy, postpartum care, and delivery.

One in 5 women in America experience maternal mental health conditions like postpartum depression, anxiety, or substance use disorder, so we launched the Maternal Mental Health Hotline. By calling 1-833-9-HELP4MOMS—a confidential, 24-hour, toll-free number—new and expecting moms can now connect with professional counselors. We are also supporting and expanding maternal mental health screening programs, including for postpartum depression. My Administration is also partnering with community-based organizations to help pregnant people access addiction services and work with professionals trained in treating substance use disorder.

We are protecting the job security and workplace rights of pregnant and nursing mothers—including Black women, who are more likely to be fired, quit, or be forced to return to work after giving birth before it is healthy for them to do so. Over the past 2 years, I signed legislation to ensure employers make reasonable accommodations for pregnant workers and job applicants, expand the use of break time and access to private spaces for millions of nursing parents, and study the unique maternal health challenges facing veterans and help ensure they get the quality health care they deserve through the Department of Veterans Affairs.

At the same time, my Administration is using the power of the Federal Government to address the long-standing disparities that Black communities continue to face—disparities that directly impact the health and well-being of Black mothers. During the height of the COVID-19 crisis, my Administration provided relief to hardworking families, cutting the rate of poverty for Black Americans by nearly a third.

We are also confronting racial discrimination in housing; expanding public transit to every neighborhood in the country; improving access to affordable and healthy food through our National Strategy on Hunger, Nutrition, and Health; and tackling dangerous environmental injustices that have hit communities of color the hardest.

This week, as we continue our work to make pregnancy and childbirth safe, dignified, and joyful for all, let us remember that health care should be a right and not a privilege. Let us give thanks to the extraordinary maternal health care workforce, which serves its patients and their families every day. And let us join in common cause to end the tragedy of maternal mortality once and for all.

NOW, THEREFORE, I, JOSEPH R. BIDEN JR., President of the United States of America, by virtue of the authority vested in me by the Constitution and the laws of the United States, do hereby proclaim April 11 through April 17, 2023, as Black Maternal Health Week. I call upon all Americans to raise awareness of the state of Black maternal health in the United States by understanding the consequences of institutional racism; recognizing the scope of this problem and the need for urgent solutions; amplifying the voices and experiences of Black women, families, and communities; and committing to building a world in which Black women do not have to fear for their safety, their well-being, their dignity, or their lives before, during, and after pregnancy.

IN WITNESS WHEREOF, I have hereunto set my hand this tenth day of April, in the year of our Lord two thousand twenty-three, and of the Independence of the United States of America the two hundred and forty-seventh.

[FR Doc. 2023-07951

Filed 4-12-23; 8:45 am]

Billing code 3395-F3-P